DEPARTMENT OF THE INTERIOR

Office of Surface Mining Reclamation and Enforcement

Notice To Reopen and Extend the Scoping Comment Period for the Environmental Impact Statement for the Four Corners Power Plant and Navajo Mine Energy Project

AGENCY: Office of Surface Mining Reclamation and Enforcement (OSM), Interior.

ACTION: Reopening and extension of the scoping comment period.

SUMMARY: We are allowing additional time for the public to submit comments on significant issues and alternatives that we should consider in the planning and preparation of an environmental impact statement (EIS) for the Four Corners Power Plant and Navajo Mine Energy Project. We are extending the end of the scoping comment period from September 17, 2012 to November 1, 2012.

DATES: To ensure consideration in developing the draft EIS, we must receive your electronic or written comments by the close of the scoping period on November 1, 2012.

ADDRESSES: Comments may be submitted in writing or by email. At the top of your letter or in the subject line of your email message, please indicate that the comments are “Four Corners-Navajo Mine EIS Comments.”

• Email comments should be sent to: fcppnavajoenergyeis@osmre.gov.

• Mail/Hand-Delivery/Courier: Written comments should be sent to: Marcelo Calle, OSM Western Region, 1999 Broadway, Suite 3320, Denver, Colorado 80202-3050.

FOR FURTHER INFORMATION CONTACT: For further information about the Project and/or to have your name added to the mailing list, contact: Marcelo Calle, OSM Project Coordinator, at 303-293-5035. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: On July 18, 2012 (77 FR 42329), we published a notice of intent (NOI) to prepare an EIS for the Four Corners Power Plant and Navajo Mine Energy Project. The NOI requested public comments on the scope of the EIS and significant issues that should be addressed in the EIS. The close of the scoping comment period for the notice of intent to prepare an EIS for the Four Corners Power Plant and Navajo Mine Energy Project published on July 18, 2012, was September 17, 2012. In response to requests for an extension of the comment period, we are granting a 45 day extension from September 17, 2012 to November 1, 2012. All comments received between September 17, 2012, and November 1, 2012, will be considered.

The July 18, 2012, NOI listed the dates and times of the public scoping meetings and discussed the alternatives and related impacts under consideration. To summarize, the EIS will analyze the impacts for the BHP Navajo Coal Company Proposed Pinabete Permit and for the Navajo Mine Permit Renewal, both of which are located on the Navajo Reservation in San Juan County, New Mexico. The EIS will also analyze the impacts for the Arizona Public Service Company Proposed Four Corners Power Plant (FCPP) lease amendment, located on the Navajo Reservation in San Juan County, New Mexico, and associated transmission line rights-of-way renewals for lines located on the Navajo and Hopi Reservations in San Juan County, New Mexico and Navajo, Coconino and Apache Counties in Arizona. In addition, the EIS will analyze impacts for the Public Service Company of New Mexico transmission line rights-of-way renewal associated with the FCPP and located on the Navajo Reservation in New Mexico.

Availability of Comments

OSM will make comments, including name of respondent, address, phone number, email address, or other personal identifying information, available for public review during normal business hours. Comments submitted anonymously will be accepted and considered; however, those who submit anonymous comments may not have standing to appeal the subsequent decision.

Before including your address, phone number, email address, or other personal identifying information in your comment, you should be aware that your entire comment—including your personal identifying information—will be publicly available. While you can ask us in your comment to withhold your personal identifying information from public review, we cannot guarantee that we will be able to do so.

Dated: August 30, 2012.
Bill Clark,
Acting Regional Director, Western Region.

[FR Doc. 2012-24948 Filed 10-11-12; 8:45 am]

BILLING CODE 4310-05-M